DEPARTMENT OF AGRICULTURE

Rural Housing Service

Rural Business-Cooperative Service

Rural Utilities Service

[DOCKET NO: RUS-24-AGENCY-0009]

Privacy Act of 1974; System of Records

AGENCY: Rural Housing Service, Rural Business-Cooperative Service, and Rural Utilities Service, USDA.

ACTION: Notice of a modified system of records.

SUMMARY: In accordance with the requirements of the Privacy Act of 1974 as amended, the U.S. Department of Agriculture's (USDA), Rural Development (RD) gives notice of its proposal to modify the system of records entitled USDA/RD-1 Current or Prospective Producers or Landowners, Applicants, Borrowers, Grantees, Tenants, and other Participants in RD programs, to communicate the addition of Routine Use 27 published below. In addition, updates were made to the System Location, Authority to Maintenance of the System, Policies and Practices for Retention and Disposal of Records, and to the Record Act Procedures.

DATES: In accordance with 5 U.S.C. 552a(e)(4) and (11), this notice is applicable upon publication, subject to a 30-day notice and comment period in which to comment on the routine uses described in the “Routine Uses of Records Maintained in the System” section of this system of records notice. Please submit any comments by October 7, 2024.

ADDRESSES: Comments may be sent by the Federal eRulemaking Portal: Go to regulations.gov and, in the “Search for dockets and documents on agency actions” box, type in the Docket No. RUS-24-AGENCY-0009 and click the “Search” button. From the search results, click on or locate the document title and select the “Comment” button. Before inputting comments, commenters may review the “Commenter's Checklist” (optional). Insert comments under the “Comment” title, click “Browse” to attach files (if available), input email address and select “Submit Comment.” Information on using Regulations.gov, including instructions for accessing documents, submitting comments, and viewing the docket after the close of the comment period, is available through the site's “FAQ” link. All comments received will be posted without change and be available for public inspection online at regulations.gov.

FOR FURTHER INFORMATION CONTACT: For general questions, please contact: Therese McGhie, USDA Privacy Team, Cybersecurity and Privacy Operations Center, Office of the Chief Information Officer, Department of Agriculture, 1400 Independence Ave. SW, Washington, DC 20250, Phone: (202) 720-2791, option 3; Email: RDprivacy@usda.gov.

SUPPLEMENTARY INFORMATION: The Privacy Act of 1974, as amended (5 U.S.C. 552a), requires agencies to publish in the Federal Register notice of new or revised systems of records maintained by the agency. In accordance with the Office of Management and Budget (OMB) Circular A-130, RD of the USDA is proposing to revise an existing Privacy Act system of records, which was last published in full on May 14, 2019 (84 FR 21315).

The agency proposes to revise USDA/RD-1 by:

(a) Adding Routine Use 27 to account for a new computer matching agreement among USDA/RD, the U.S. Social Security Administration, and the U.S. Department of Health and Human Services. Routine Use 27 will apply to records already identified in USDA/RD-1;

(b) Updating the System Location;

(c) Updated the Authority for Maintenance of System; and

(d) Updating the Policies and Practices for Retention and Disposal of Records.

SYSTEM NAME AND NUMBER:

USDA/RD-1 Current or Prospective Producers or Landowners, Applicants, Borrowers, Grantees, Tenants, and other participants in RD programs.

SECURITY CLASSIFICATION:

Unclassified.

SYSTEM LOCATION:

Records are located at USDA RD, Suite 1701, 211 North Broadway, St. Louis, MO 63102 and DISC Enterprise Data Center, 8930 Ward Parkway Blvd., Kansas City, MO.

SYSTEM MANAGER(S):

The Community Development Manager at the Local Office; the RD Manager at the Area Office; and the State Director at the State Office; the Deputy Chief Financial Officer in St. Louis, MO; and the respective Administrators in the National Office at the following addresses: Administrator, Rural Housing Service, USDA, 1400 Independence Avenue SW, Room 5014A, South Building, Stop 0701, Washington, DC 20250-0701; Administrator, Rural Business-Cooperative Service, USDA, 1400 Independence Ave. SW, Rm. 5803, Stop 3201, Washington, DC 20250-3201; Administrator, Rural Utilities Service,—USDA 1400 Independence Ave. SW, Rm. 4121, Stop 1510, Washington, DC 20250-1510. Contact information can be found at rd.usda.gov.

AUTHORITY FOR MAINTENANCE OF THE SYSTEM:

Consolidated Farm and Rural Development Act of 1972, as amended; Section 12204 of the Agricultural Act of 2014 (Pub. L. 113-79); Agricultural Credit of 1961 & Consolidated Farm and Rural Development Act (7 U.S.C. 1921 et seq.); Housing Act of 1949 (42 U.S.C. 1471 et seq.); section 901 of the Food Conservation, and Energy Act of 2008 (Pub. L. 110-246); Rural Electrification and Telephone Service (7 U.S.C. 901 et seq.); and Agriculture Improvement Act of 2018 (Pub. L. 115-334), as amended.

PURPOSE(S) OF THE SYSTEM:

The purpose of this system is for Rural Development (RD) to maintain information that is used for current or prospective producers or landowners, applicants, borrowers, grantees, tenants, and other participants in RD programs designed to help improve the economy and quality of life in rural America.

These financial systems support such essential public facilities and service as water and sewer systems, housing, health clinics, emergency service facilities, and electric and telephone services. Additionally, RD systems and feeder applications promote economic development by supporting loans to businesses through banks, credit unions, and community-managed lending pools. The suite of RD systems covered by this system of records is developed and maintained by the Chief Information Officer, Washington, DC.

CATEGORIES OF INDIVIDUALS COVERED BY THE SYSTEM:

Current or prospective producers or landowners, applicants, borrowers, grantees, tenants, and their respective household members, including members of associations and other participants in RD programs.

CATEGORIES OF RECORDS IN THE SYSTEM:

Records include individual's social security or employer identification number, bank routing and account numbers; and their respective household members' characteristics, such as gross and net income, sources of income, capital, assets and liabilities, net worth, age, race, number of dependents, marital status, reference material, farm or ranch operating plans, and property appraisal. The system also tracks credit reports and personal references from credit agencies, lenders, businesses, and individuals. In addition, a running record of observation concerning the operations of the person being financed is included. A record of deposits to and withdrawals from an individual's supervised bank account is also contained in those files where appropriate. In some local offices, this record is maintained in a separate folder containing only information relating to activity within supervised bank accounts. Some items of information are extracted from the individual's file and placed in a card file for quick reference.

RECORD SOURCE CATEGORIES:

Information in this system comes primarily from credit reports. Personal references come primarily from current or prospective producers or landowners, applicants, borrowers, grantees, tenant, credit agencies, and creditors.

ROUTINE USES OF RECORDS MAINTAINED IN THE SYSTEM, INCLUDING CATEGORIES OF USERS AND THE PURPOSES OF SUCH USES:

In addition to those disclosures generally permitted under 5 U.S.C. 552a(b) of the Privacy Act, records contained in this system may be disclosed outside USDA as a routine use pursuant to 5 U.S.C. a(b)(3) to the extent that such uses are compatible with the purpose for which the information was collected as follows:

1. When a record on its face, or in conjunction with other records, indicates a violation or potential violation of law, whether civil, criminal or regulatory in nature, and whether arising by general statute or particular program statute, or by regulation, rule, or order issued pursuant thereto, disclosure may be made to the appropriate agency, whether Federal, foreign, state, local, or tribal, or other public authority responsible for enforcing, investigating or prosecuting such violation or charged with enforcing or implementing the statute, or rule, regulation, or order issued pursuant thereto, if the information disclosed is relevant to any enforcement, regulatory, investigative or prospective responsibility of the receiving entity.

2. To a Member of Congress or to a Congressional staff member in response to an inquiry of the Congressional office made at the written request of the constituent about whom the record is maintained.

3. RD will provide information from these systems to the U.S. Department of the Treasury and to other Federal agencies maintaining debt servicing centers, in connection with overdue debts, in order to participate in the Treasury's Offset Program as required by the Debt Collection Improvements Act, Public Law 104-134, section 31001.

4. Disclosure to RD of name, home addresses, and information concerning default on loan repayment when the default involves a security interest in tribal allotted or trust land. Pursuant to the Cranston-Gonzales National Affordable Housing Act of 1990 (42 U.S.C. 12701 et seq.), liquidation may be pursued only after offering to transfer the account to an eligible tribal member, the tribe, or the Indian housing authority serving the tribe(s).

5. Disclosure of names, home addresses, social security numbers, and financial information to a collection or servicing contractor, financial institution, or a local, state, or Federal agency, when RD determines such referral is appropriate for servicing or collecting the borrower's account or as provided for in contracts with servicing or collection agencies.

6. To a court or adjudicative body in a proceeding when: (a) The agency or any component thereof; or (b) any employee of the agency in his or her official capacity; or (c) any employee of the agency in his or her individual capacity where the agency has agreed to represent the employee; or (d) the United States Government, is a party to litigation or has an interest in such litigation, and by careful review, the agency determines that the records are both relevant and necessary to the litigation and the use of such records is therefore deemed by the agency to be for a purpose that is compatible with the purpose for which the agency collected the records.

7. Disclosure of names, home addresses, and financial information for selected borrowers to financial consultants, advisors, lending institutions, packagers, agents, and private or commercial credit sources, when RD determines such referral is appropriate to encourage the borrower to refinance his RD indebtedness as required by Title V of the Housing Act of 1949, as amended (42 U.S.C. 1471), or to assist the borrower in the sale of the property.

8. Disclosure of legally enforceable debts to the Department of the Treasury, Internal Revenue Service (IRS), to be offset against any tax refund that may become due the debtor for the tax year in which the referral is made, in accordance with the IRS regulations at 26 CFR 301.6402-6T, Offset of Past Due Legally Enforceable Debt Against Overpayment, and under the authority contained in 31 U.S.C. 3720A.

9. Disclosure of information regarding indebtedness to the Defense Manpower Data Center, Department of Defense, and the United States Postal Service for the purpose of conducting computer matching programs to identify and locate individuals receiving Federal salary or benefit payments and who are delinquent in their repayment of debts owed to the U.S. Government under certain programs administered by RD in order to collect debts under the provisions of the Debt Collection Act of 1982 (5 U.S.C. 5514) by voluntary repayment, administrative or salary offset procedures, or by collection agencies.

10. Disclosure of names, home addresses, and financial information to lending institutions when RD determines the individual may be financially capable of qualifying for credit with or without a guarantee.

11. Disclosure of names, home addresses, social security numbers, and financial information to lending institutions that have a lien against the same property as RD for the purpose of the collection of the debt. These loans may be under the direct and guaranteed loan programs.

12. Disclosure to private attorneys under contract with either RD or with the Department of Justice for the purpose of foreclosure and possession actions and collection of past due accounts in connection with RD.

13. To the Department of Justice when: (a) The agency or any component thereof; or (b) any employee of the agency in his or her official capacity where the Department of Justice has agreed to represent the employee; or (c) the United States Government, is a party to litigation or has an interest in such litigation, and by careful review, the agency determines that the records are both relevant and necessary to the litigation and the use of such records by the Department of Justice is therefore deemed by the agency to be for a purpose that is compatible with the purpose for which the agency collected the records.

14. Disclosure of names, home addresses, social security numbers, and financial information to the Department of Housing and Urban Development for the purpose of evaluating a loan applicant's creditworthiness, information that will allow for the pre- screening of applicants through the Credit Alert Verification Reporting System (CAIVRS) computer matching program. An applicant shall be pre- screened for any debts owed or loans guaranteed by the Federal government to ascertain if the applicant is delinquent in paying a debt owed to or insured by the Federal government.

Authorized employees of, and approved private lenders acting on behalf of, the Federal agencies participating in the CAIVRS computer matching program will be able to search the CAIVRS database.

15. Disclosure of names, home addresses, social security numbers, and financial information to the Department of Labor, State Wage Information Collection Agencies, and other Federal, State, and local agencies, as well as those responsible for verifying information furnished to qualify for Federal benefits, to conduct wage and benefit matching through manual and/or automated means, for the purpose of determining compliance with Federal regulations and appropriate servicing actions against those not entitled to program benefits, including possible recovery of improper benefits.

16. Disclosure of names, home addresses, and financial information to financial consultants, advisors, or underwriters, when RD determines such referral is appropriate for developing packaging and marketing strategies involving the sale of RD loan assets.

17. Disclosure of names, home and work addresses, home telephone numbers, social security numbers, and financial information to escrow agents (which also could include attorneys and title companies) selected by the applicant or borrower for the purpose of closing the loan.

18. Disclosure to Health and Human Services (HHS) parent locator system for finding parents who do not pay child support: The name and current address of record of an individual may be disclosed from this system of records to the parent locator service of the Department of HHS or authorized persons defined by Public Law 93-647, 42 U.S.C. 653.

19. To agency contractors, grantees, experts, consultants or volunteers who have been engaged by the agency to assist in the performance of a service related to this system of records and who need to have access to the records to perform the activity. Recipients shall be required to comply with the requirements of the Privacy Act of 1974, as amended, pursuant to 5 U.S.C. 552a(m).

20. Disclosure to customer service agents for training and evaluation purposes. Information is collected during calls made by the client to the CSC Customer Service Section to discuss questions or concerns pertaining to their mortgage account(s) with RD. The information discussed during the call to the CSC help desk is captured and used for training and evaluation purposes to ensure proper procedures are being followed and accurate information is provided when assisting the client.

21. To appropriate agencies, entities, and persons when (1) RD suspects or has confirmed that there has been a breach of the system of records, (2) RD has determined that as a result of the suspected or confirmed breach there is a risk of harm to individuals, RD (including its information systems, programs, and operations), the Federal Government, or national security; and (3) the disclosure made to such agencies, entities, and persons is reasonably necessary to assist in connection with RD efforts to respond to the suspected or confirmed breach or to prevent, minimize, or remedy such harm” suspected or confirmed compromise and prevent, minimize, or remedy such harm.

22. To another Federal agency or Federal entity, when RD determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

23. To comply with Federal Funding Accountability and Transparency Act (FFATA) and similar statutory requirements for public disclosure in situations where records reflect loans, grants, or other payments to members of the public: USDA will disclose information about individuals from this system of records in accordance with the Federal Funding Accountability and Transparency Act of 2006 (Pub. L. 109-282; codified at 31 U.S.C. 6101, et seq.); section 204 of the E-Government Act of 2002 (Pub. L. 107-347; 44 U.S.C. 3501 note), and the Office of Federal Procurement Policy Act (41 U.S.C. 403 et seq.), or similar statutes requiring agencies to make available publicly information concerning Federal financial assistance, including grants, sub grants, loan awards, cooperative agreements and other financial assistance; and contracts, subcontracts, purchase orders, task orders, and delivery orders.

24. To the National Archives and Records Administration for to the National Archives and Records Administration for records management inspections conducted under 44 U.S.C. 2904 and 2906.

25. To the Department of the Treasury for the purpose of identifying, preventing, or recouping improper payments to an applicant for, or recipient of, Federal funds, including funds disbursed by a State in a State-administered, federally funded program, information that will allow for pre-payment eligibility review of a loan applicant through the Do Not Pay computer matching program. Authorized employees of, and approved private lenders acting on behalf of, the Federal agencies participating in the Do Not Pay computer matching program will be able to search the Do Not Pay database. The disclosure may include applicant's name, home address, Social Security Number, income/financial data, date of birth, personal telephone number, and personal email address.

26. To financial institutions (including government sponsored enterprises), Federal agencies, and other entities for the purposes of enhancing program operations and performance through automated underwriting, credit scoring and risk management.

27. Disclose information pursuant to the Computer Matching Agreements with the Social Security Administration (SSA) and with Department of Health and Human Services (HHS) for the purpose of identification and income verification and compliance with Title II, Title XVI, Improper Payment Information Act.

Explanatory Text: Verification will assist USDA RD to assess eligibility for the Rental Assistance, Single Family Direct, and Voucher programs; and to certify compliance with the Improper Payment Information Act by reducing improper payments and unauthorized assistance. The matching agreements will provide USDA RD with an indicator of whether participants have reported complete and accurate income.

Disclosure to Consumer Reporting Agencies: Disclosures pursuant to 5 U.S.C. 552a(b)(12): Disclosures may be made from this system to consumer reporting agencies as defined in the Fair Credit Reporting Act (15 U.S.C. 1681a(f)) or the Federal Claims Collection Act (31 U.S.C. 3701(a)(3)).

POLICIES AND PRACTICES FOR STORAGE OF RECORDS:

Records are maintained in file folders at the local, area, state, and national offices. All records are converted to electronic format and stored on a USDA managed certified and accredited storage repository. Once agency employees convert the paper documents to digital records, verify that the digital record is readable and successfully ported to the imaging repository the manual documents are destroyed in compliance with RD regulation (shredding). Other program imaging repositories are utilized to allow multi- point access to electronic records, but the manual documents are retained securely in the local office until such time as the account is considered closed per Rural Development Regulation 2033-A. At that time, the documents/case files are destroyed in a manner as outlined in RD regulation. If the office cannot accommodate proper, manual file retention standards (inadequate space to secure and house documents/files that require retention), inactive documents/case files (i.e., charge-offs, pay-offs, denials, withdrawn) can be retired to the Federal Records Center. Any records shipped to the Center for retention must be clearly inventoried and marked with a destroy-by date. The destroy date is determined by the record type after it is closed (e.g., loss to the government retention is 7 years after case is closed). The retention schedule can be found at RD 2033-A and the Operational Records Manual. For further information contact the RD Records Officer. If closed/inactive files are retained at the local office until such time as they are eligible for destruction, they are stored in a secured location.

POLICIES AND PRACTICES FOR RETRIEVAL OF RECORDS:

Records are indexed by name, identification number, and type of loan or grant. Data may be retrieved from the paper records or the electronic storage. All RD state and field offices as well as the financial office and the Customer Service Center (CSC) have the telecommunications capability available to access this subset of data.

POLICIES AND PRACTICES FOR RETENTION AND DISPOSAL OF RECORDS:

Records are retained in accordance with the General Records Schedule and/or Agency Controlled Records Schedule. Records are maintained subject to the Federal Records Disposal Act of 1943 (44 U.S.C. 33), and as amended in accordance with RD disposal schedules. The local, area, state, and national offices dispose of records by shredding, burning, or other suitable disposal methods after established retention periods have been fulfilled. (Destruction methods may never compromise the confidentiality of information contained in the records.) Applications, including credit reports and personal references, which are rejected, withdrawn, or otherwise terminated are kept in the local, area, or state offices in accordance with approved records schedules. Correspondence records at the National Office, which concern borrowers and applicants, are retained for seven full fiscal years.

ADMINISTRATIVE, TECHNICAL, AND PHYSICAL SAFEGUARDS:

Paper records are kept in locked offices at the Local, Area, State, and National Offices. For electronic records and an online retrieval system at the Finance Office access is restricted to authorize Rural Development personnel. A system of operator and terminal passwords and code numbers is used to restrict access to the online system.

Passwords and code numbers are changed as necessary.

The records are protected by the confidentiality requirements of the USDA Office of the Chief Information Officer (OCIO) Cyber Security Manuals and the provisions of the Privacy Act. Only authorized USDA employees will have access to the records in this system on a need to know basis. Role based access controls are used and the systems are accessible via the USDA Intranet.

Only authorized USDA personnel will have access to these records. The systems covered by this notice have been categorized as having a Moderate security categorization impact as identified in Federal Information Processing Standard (FIPS) 199, Standards for Security Categorization of Federal Information and Information Systems. The security controls implemented within the systems will correspond with those published in the National Institute of Standards and Technology (NIST) Special Publication 800-53, Recommended Security Controls for Federal Information Technology Systems for a Moderate impact system.

Users are only granted system access upon successful completion of information security training and each user is supplied with a unique and strong user-id and password. The user roles are restrictive and based on the principle of least privilege allowing for adequate performance of job functions and access to information is based on a need to know.

Due to the financial nature of the systems covered by this notice, the systems also adhere to the security controls identified in the Federal Information Security Control Audit Manual (FISCAM). The mandatory requirements of FIPS 199 and FIPS 200, Minimum Security Requirements for Federal Information and Information Systems, support the Federal Information Security Management Act (FISMA) and the FISCAM supports the mandated Office of Management and Budget (OMB) Circular A-123, Management of Internal Controls.

Moreover, specific USDA security requirements are adhered to through the USDA Cyber Security Manuals including but not limited to: DM3545-000, Personnel Security, and DM3510-001, Physical Security Standards for Information Technology Restricted Space.

RECORD ACCESS PROCEDURES:

Any individual may request information regarding this system of records or determine whether the system contains records pertaining to him/her, from the appropriate System Manager. If the specific location of the record is not known, the individual should address his or her request to: Rural Development, Freedom of information Officer, United States Department of Agriculture, 1400 Independence Avenue SW, Stop 0742, and Washington, DC 20250-0742, https://efoia-pal.usda.gov/app/Home.aspx.

A request for information pertaining to an individual must include a name; an address; the RD office where the loan or grant was applied for, approved, and/or denied; the type of RD program; and the date of the request or approval.

CONTESTING RECORD PROCEDURES:

See “Record Access Procedure” above.

NOTIFICATION PROCEDURES:

See “Record Access Procedure” above.

EXEMPTIONS PROMULGATED FOR THE SYSTEM:

None.

HISTORY:

System of Records: USDA/Rural Development-1 Current or Prospective Producers or Landowners, Applicants, Borrowers, Grantees, Tenants, and Other Participants in RD Programs. A Notice by the Rural Housing Service, the Rural Business-Cooperative Service, and the Rural Utilities Service published to the Federal Register May 14, 2019 (84 FR 21315, No. 93, FR Doc. 2019-09874).

Basil I. Gooden,
Under Secretary, Rural Development, United States Department of Agriculture.

[FR Doc. 2024-20068 Filed 9-5-24; 8:45 am]

BILLING CODE 3410-XY-P